DEPARTMENT OF VETERANS AFFAIRS

38 CFR Part 17

RIN 2900-AR98

VA Health Professional Scholarship Program

AGENCY: Department of Veterans Affairs.

ACTION: Proposed rule.

SUMMARY: VA proposes to amend its regulations that govern the VA Health Professional Scholarship Program (HPSP) by implementing the mandates of the Consolidated Appropriations Act, which would expand the number of scholarships available to those who are pursuing degrees or training in mental health disciplines. We also propose to make a technical correction under the Paperwork Reduction Act section to correct an approved OMB control number.

DATES: Comments must be received on or before October 13, 2023.

ADDRESSES: Comments must be submitted through www.regulations.gov. Except as provided below, comments received before the close of the comment period will be available at www.regulations.gov for public viewing, inspection, or copying, including any personally identifiable or confidential business information that is included in a comment. We post the comments received before the close of the comment period on the following website as soon as possible after they have been received: https://www.regulations.gov. VA will not post on Regulations.gov public comments that make threats to individuals or institutions or suggest that the commenter will take actions to harm the individual. VA encourages individuals not to submit duplicative comments. We will post acceptable comments from multiple unique commenters even if the content is identical or nearly identical to other comments. Any public comment received after the comment period's closing date is considered late and will not be considered in the final rulemaking.

FOR FURTHER INFORMATION CONTACT: Nicole Nedd, Director, Scholarships and Clinical Education, Workforce Management, 810 Vermont Ave NW, Washington, DC 20420. (504-507-4985). (This is not a toll-free telephone number.)

SUPPLEMENTARY INFORMATION: Pursuant to sections 7601 through 7619, 7633, 7634, and 7636 of title 38, United States Code (U.S.C.) and the implementing regulations at sections 17.600 through 17.612 of title 38, Code of Federal Regulations (CFR), VA has established the HPSP to assist in providing an adequate supply of trained health-care personnel for VA and the Nation. The purpose of the HPSP is to award scholarships to students pursuing a course of study leading to a degree in certain health care occupations, listed in 38 U.S.C. 7401(1) and (3). See § 17.600. The HPSP allows VA to provide scholarship awards to facilitate recruitment and retention of employees in several hard-to-fill health care occupations. Id.

Pursuant to § 17.603(a), HPSP scholarships will be awarded only when necessary to assist VA in alleviating shortages or anticipated shortages of personnel in certain health professions. Current paragraphs (b)(1) through (2) further explain that HPSP scholarships will be awarded to physicians, dentists, and other health care professions. Under § 17.603(b)(1)(i), VA will award not less than an additional 50 HPSP scholarships (83 total) each year to individuals who are accepted for enrollment or are enrolled in a program of education or training leading to employment as a physician or dentist until such date as VA determines that the staffing shortage of physicians and dentists in VA is less than 500. Additionally, VA will grant HPSP scholarships in a course of study in those disciplines or programs other than physician or dentist where recruitment is necessary for the improvement of veterans' health care as listed in 38 U.S.C. 7401(1) and (3). See § 17.603(b)(2).

On December 29, 2022, the Consolidated Appropriations Act (the Act), Public Law 117-328, was enacted into law. Section 104(a) of Division V of the Act expands the HPSP by requiring VA to specifically award scholarships to applicants who are pursuing degrees or training in mental health disciplines, including advanced practice nursing (with a focus on mental health or substance use disorder), psychology, and social work. This section requires that VA provide no fewer than an additional 50 awards (as compared to academic year 2021) to such applicants per academic year starting in academic year 2022.

To comply with the mandate of section 104(a) of Division V of the Act, we propose to amend § 17.603(b). We also propose to make a technical correction to § 17.602 to correctly reflect the Office of Management and Budget (OMB) control number for the approved collection of information.

Section 17.603 Availability of HPSP Scholarships

Section 17.603 establishes the availability of HPSP scholarships. Paragraph (b) provides for the fields of education that qualify for the HPSP scholarship. We propose to redesignate current paragraph (b)(2) as new paragraph (b)(3) without making changes to the current regulation text which explains when VA will grant HPSP scholarships to other health care professions. Consistent with section 104(a) of Division V of the Act, we propose to add a new paragraph (b)(2) to state that notwithstanding paragraphs (b)(1) and (3) of this section, VA will award not less than 83 HPSP scholarships each year to individuals who are accepted for or are enrolled in a program of education or training leading to employment in a mental health discipline, including, but limited to, advanced practice nursing (with a focus on mental health or substance use disorder), psychology, or social work. Because a mental health care professional may be eligible to receive an HPSP scholarship under current paragraph (b)(1) or proposed paragraph (b)(3), we would add that such professionals would be awarded a scholarship pursuant to paragraph (b)(2) notwithstanding an applicant's eligibility under paragraphs (b)(1) or (b)(3) of § 17.603.

We are required by section 104(a) of Division V of the Act to increase the amount of scholarships to individuals who pursued education leading to employment in advanced practice nursing (with a focus on mental health or substance use disorder), psychology, or social work by not fewer than an additional 50 awards for academic year 2022 (as compared to academic year 2021). Therefore, we propose to award not less than 83 HPSP scholarships for mental health disciplines as VA awarded a combined total of 33 HPSP scholarships to individuals who pursued education leading to employment in mental health disciplines during academic year 2022. However, we will not be able to implement the mandates of section 104(a) of Division V of the Act during academic year 2022 because the application period for that year has already passed. VA usually starts accepting applications for an academic year during the spring of the prior academic year. For example, to award HPSP scholarships for an academic year that starts in September 2024, the applications must be submitted and granted during the spring 2024. VA does not anticipate awarding these additional HPSP scholarships until spring 2024 for academic year 2024.

While section 104(a) of Division V of the Act provided that VA award HPSP scholarships to individuals who are pursuing a course of education leading to employment in mental health disciplines, including advanced practice nursing (with a focus on mental health or substance use disorder), psychology, and social work, we would clarify in proposed paragraph (b)(2) that mental health disciplines include, but are not limited to, advanced practice nursing (with a focus on mental health or substance use disorder), psychology, or social work. (emphasis added). The plain language reading of section 104(a) of the Division V of the Act could imply that an individual must be pursuing all three disciplines simultaneously in order to receive the HPSP scholarship by using the term “and”. However, we believe that the correct term should be “or” because most individuals would only be pursuing one of the three disciplines cited in section 104(a) of Division V of the Act. We, therefore, propose to change the term “and” to “or” by stating that the HPSP scholarships would be awarded for mental health disciplines, which include, but are not limited to, advanced practice nursing (with a focus on mental health or substance use disorder), psychology, or social work.

In addition, as there are other mental health disciplines, we do not provide an exhaustive list of such disciplines. Rather, we propose including the examples Congress included in the law, but noting that scholarships under proposed paragraph (b)(2) are not limited to this list of mental health disciplines. Other mental health disciplines may include licensed professional mental health counselor, marriage and family therapist, physician assistants, and rehabilitation counseling.

Technical Correction

Section 17.602 currently contains an incorrect approved Office of Management and Budget (OMB) information collection control number. The information collection for this section has been approved by OMB and has been assigned OMB control number 2900-0793. However, § 17.602 contains the incorrect OMB control number of 2900-0352. We propose to update § 17.602 to reflect the correct and approved OMB control number.

Executive Orders 12866,13563, and 14094

Executive Orders 12866 (Regulatory Planning and Review) direct agencies to assess the costs and benefits of available regulatory alternatives and, when regulation is necessary, to select regulatory approaches that maximize net benefits (including potential economic, environmental, public health and safety effects, and other advantages; distributive impacts; and equity). Executive Order 13563 (Improving Regulation and Regulatory Review) emphasizes the importance of quantifying both costs and benefits, reducing costs, harmonizing rules, and promoting flexibility. Executive Order 14094 (Executive Order on Modernizing Regulatory Review) supplements and reaffirms the principles, structures, and definitions governing contemporary regulatory review established in Executive Order 12866 of September 30, 1993 (Regulatory Planning and Review), and Executive Order 13563 of January 18, 2011 (Improving Regulation and Regulatory Review). The Office of Information and Regulatory Affairs has determined that this rulemaking is not a significant regulatory action under Executive Order 12866, as amended by Executive Order 14094. The Regulatory Impact Analysis associated with this rulemaking can be found as a supporting document at www.regulations.gov.

Regulatory Flexibility Act

The Secretary hereby certifies that this proposed rule would not have a significant economic impact on a substantial number of small entities as they are defined in the Regulatory Flexibility Act (5 U.S.C. 601-612). This proposed rule would solely be operated and administered within VA and would only affect individuals who apply and are awarded an HPSP scholarship. On this basis, the Secretary certifies that the adoption of this proposed rule would not have a significant economic impact on a substantial number of small entities as they are defined in the Regulatory Flexibility Act. Therefore, under 5 U.S.C. 605(b), the initial and final regulatory flexibility analysis requirements of 5 U.S.C. 603 and 604 do not apply.

Unfunded Mandates

The Unfunded Mandates Reform Act of 1995 requires, at 2 U.S.C. 1532, that agencies prepare an assessment of anticipated costs and benefits before issuing any rule that may result in the expenditure by State, local, and tribal governments, in the aggregate, or by the private sector, of $100 million or more (adjusted annually for inflation) in any one year. This proposed rule would have no such effect on State, local, and tribal governments, or on the private sector.

Paperwork Reduction Act

Although this proposed rule contains an increase in the provisions constituting a collection of information under the provisions of the Paperwork Reduction Act of 1995 (44 U.S.C. 3501-3521), this increase is already captured in an existing collection of information. The collections of information for 38 CFR 17.602 are currently approved by the Office of Management and Budget (OMB) and have been assigned OMB control number 2900-0793. However, § 17.602 incorrectly reflects OMB control number 2900-0352. We propose to correct this technical error in this rulemaking by updating the reference in § 17.602 to reflect OMB control number 2900-0793.

List of Subjects in 38 CFR Part 17

Administrative practice and procedure, Health care, Health facilities, Health professions, Scholarships and fellowships.

Signing Authority

Denis McDonough, Secretary of Veterans Affairs, approved this document on August 7, 2023, and authorized the undersigned to sign and submit the document to the Office of the Federal Register for publication electronically as an official document of the Department of Veterans Affairs.

Consuela Benjamin,
Regulation Development Coordinator, Office of Regulation Policy & Management, Office of General Counsel, Department of Veterans Affairs.

For the reasons stated in the preamble, the Department of Veterans Affairs proposes to amend 38 CFR part 17 as set forth below:

PART 17—MEDICAL

1. The authority citation for part 17 is amended by adding an entry for §§ 17.600 through 17.612, in numerical order, to read as follows:

Authority: 38 U.S.C. 501, and as noted in specific sections.

* * * * *

Sections 17.600 through 17.612 are also issued under 38 U.S.C. 7601-7619, 7633, 7634, 7636, and sec. 104(a), div. V, Pub. L. 117-328.

* * * * *

2. Amend § 17.602 by revising the parenthetical at the end of the section to read as follows.

§ 17.602 Eligibility.

* * * * *

(Approved by the Office of Management and Budget under control number 2900-0793)

3. Amend § 17.603 by:

a. Redesignating paragraph (b)(2) as new paragraph (b)(3); and

b. Adding new paragraph (b)(2).

The addition reads as follows:

§ 17.603 Availability of HPSP scholarships.

* * * * *

(b) * * *

(2) Mental health disciplines. Notwithstanding paragraphs (b)(1) and (3) of this section, VA will award not less than 83 HPSP scholarships each year to individuals who are accepted for or are enrolled in a program of education or training leading to employment in a mental health discipline, including, but limited to, advanced practice nursing (with a focus on mental health or substance use disorder), psychology, or social work.

* * * * *

[FR Doc. 2023-17318 Filed 8-11-23; 8:45 am]

BILLING CODE 8320-01-P